DEPARTMENT OF COMMERCE

National Oceanic and Atmospheric Administration

Proposed Information Collection; Comment Request; Atlantic Surfclam and Ocean Quahog Framework Adjustment I

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 21, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Tim Cardiasmenos, (978) 281-9204 or Timothy.Cardiasmenos@noaa.gov.

SUPPLEMENTARY INFORMATION:

I. Abstract

Under the Magnuson-Stevens Fishery Conservation and Management Act, the Secretary of Commerce (Secretary) has the responsibility for the conservation and management of marine fishery resources. Much of this responsibility has been delegated to the NOAA's National Marine Fisheries Service (NMFS). Under this stewardship role, the Secretary was given certain regulatory authorities to ensure the most beneficial uses of these resources. One of the regulatory steps taken to carry out the conservation and management objectives is to collect data from users of the resource. Thus, as regional Fishery Management Councils develop specific Fishery Management Plans (FMP), the Secretary has promulgated rules for the issuance and use of a Vessel Monitoring System (VMS) and to obtain fishery-dependent data to monitor, evaluate, and enforce fishery regulations.

Framework Adjustment 1 (FW1) to the Atlantic Surf Clam and Ocean Quahog FMP contains a VMS requirement for surfclam and ocean quahog vessels participating in the individual transferable quota program and limited access Maine mahogany quahog vessels. VMS was identified as a need in this fishery to (1) Eliminate the requirement to notify NMFS Office of Law Enforcement (OLE) via telephone prior to beginning a fishing trip, (2) facilitate the monitoring of areas closed to fishing due to environmental degradation (e.g., harmful algal blooms and former dump sites for military munitions), and (3) facilitate the monitoring of borders between state and Federal fishing jurisdictions.

II. Method of Collection

All information is submitted electronically through VMS units.

III. Data

OMB Control Number: 0648-0558.

Form Number: None.

Type of Review: Regular submission.

Affected Public: Business and other for-profit organizations.

Estimated Number of Respondents: 62.

Estimated Time per Response: 1 minute per trip for VMS declaration; 5 minutes for VMS certification form; 5 minutes for telephone call to verify proper VMS installation; 30 minutes for VMS power-down authorization.

Estimated Total Annual Burden Hours: 100.

Estimated Total Annual Cost to Public: $31,680.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 19, 2010.
Gwellnar Banks,
Management Analyst, Office of the Chief Information Officer.

[FR Doc. 2010-9315 Filed 4-21-10; 8:45 am]

BILLING CODE 3510-22-P